CORPORATION FOR NATIONAL AND COMMUNITY SERVICE

Information Collection; Submission for OMB Review, Comment Request

ACTION: Notice.

SUMMARY: The Corporation for National and Community Service (hereinafter the “Corporation”), has submitted a public information collection request (ICR) entitled the Longitudinal Evaluation of AmeriCorps to the Office of Management and Budget (OMB) for review and approval in accordance with the Paperwork Reduction Act of 1995, Pub. L. 104-13, (44 U.S.C. Chapter 35). Copies of this ICR, with applicable supporting documentation, may be obtained by calling the Corporation for National and Community Service, Ms. Lillian Dote at (202) 606-6984. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 3, 2006. This comment period ended April 4, 2006. No public comments were received from this notice.

Description: AmeriCorps is a national service program that provides grants to nonprofit organizations and government entities to support members and volunteers serving in national and local community service programs. The Corporation is seeking approval for the Longitudinal Study of AmeriCorps, an evaluation of the impacts of AmeriCorps service on program participants.

Type of Review: New Information Collection.

Agency: Corporation for National and Community Service.

Title: Longitudinal Study of AmeriCorps.

OMB Number: None.

Agency Number: None.

Affected Public: Participants in Longitudinal Study of AmeriCorps.

Total Respondents: 4,153.

Frequency: Periodically.

Average Time Per Response: 45 minutes.

Estimated Total Burden Hours: 3,115 hours.

Total Burden Cost (capital/startup): None.

Total Burden Cost (operating/maintenance): None.

Dated: August 30, 2006.
Robert Grimm,
Director, Office of Research and Policy Development.

[FR Doc. E6-14763 Filed 9-6-06; 8:45 am]

BILLING CODE 6050-$$-P